DEPARTMENT OF DEFENSE

Department of the Army; Corps of Engineers

Availability of the Feasibility Study and Proposed Plan for the St. Louis North County Site for Public Review and Comment

AGENCY: Department of the Army, U.S. Army Corps of Engineers, DoD.

ACTION: Notice of availability.

SUMMARY: The St. Louis District, U.S. Army Corps of Engineers (USACE), in consultation with the U.S. Environmental Protection Agency (EPA), proposes to cleanup contaminants at the St. Louis North County Site resulting from uranium manufacturing and processing activities conducted during the early years of the nation's atomic energy program. This site is one of several being addressed under the Comprehensive Environmental Response, Compensation and Liability Act (CERCLA). Alternatives, which identify the range of potential final site remedies, have been developed and evaluated in the St. Louis North County Feasibility Study (FS). USACE has identified Alternative 5, Excavation with Institutional Controls Under Roads, Bridges, Railroads and Other Permanent Structures, as the preferred alternative in the Proposed Plan (PP) based on the information available at this time. The final remedy will be selected and identified in a Record of Decision (ROD) only after consideration of all comments received and any new information presented.

DATES: The FS and PP will be available for public review from May 1, 2003 through May 30, 2003. Written comments must be received before June 1, 2003. A public meeting, regarding all of the alternatives presented in the FS/PP, will be begin at 6 p.m. at the Hazelwood Civic Center—East at 8969 Dunn Road in Hazelwood, MO on May 29, 2003. Oral and written comments will be accepted at the meeting.

ADDRESSES: Submit written comment to Ms. Sharon Cotner, FUSRAP Program Manager, U.S. Army Corps of Engineers, St. Louis District, 8945 Latty Avenue, Berkeley, MO 63134 before June 1, 2003.

FOR FURTHER INFORMATION CONTACT: Ms. Jacqueline Mattingly at (314) 260-3924 or (314) 260-3905, or Jacqueline.Mattingly@mvs02.usace.army.mil.

SUPPLEMENTARY INFORMATION:

1. Proposed Action

The USACE, St. Louis District, is issuing the St. Louis North County FS and PP for public review and comment. The North County Site became contaminated as a result of activities supporting the nation's early atomic energy program. From 1942 to 1957, the Mallinckrodt Chemical Plant extracted uranium and radium from ore at the St. Louis Downtown Site in St. Louis, Missouri. From 1946 until 1967, radioactive process byproducts were stored at an area adjacent to the Lambert-St. Louis Airport, which is now referred to as the St. Louis Airport Site (SLAPS). In 1966, the SLAPS wastes were purchased, moved to, and stored at a property on Latty Avenue. This property later became known as the Hazelwood Interim Storage Site (HISS) and the Futura property. During this move, handling and transportation of the contamination resulted in the material being spread along haul routes and to the adjacent vicinity properties, which are referred to as the SLAPS Vicinity Properties (VPs). The North County Site, which generally consists of SLAPS, HISS/Futura, and the VPs, is being managed by the Corps of Engineers under the Formerly Utilized Sites Remedial Action Program (FUSRAP). The alternatives to address contamination at this site are evaluated in the FS and are summarized in the PP.

2. Project Alternatives

a. Alternative 1—No Action. Required by CERCLA for baseline comparison. Requires periodic environmental monitoring. No soils excavated.

b. Alternative 2—Partial Excavation and Capping at SLAPS and HISS/Futura. Excavate impacted soils only from the VPs for out-of-state disposal. Cap SLAPS and HISS/Futura with stone and clean soil. Use institutional controls to restrict future land use at SLAPS, HISS/Futura, and to control soils beneath roads, bridges, railroads, and other permanent structures.

c. Alternative 3—Partial Excavation and Treatment at SLAPS. Excavate impacted soils from HISS/Futura and VPs. Consolidate excavated soils at SLAPS for treatment (soil sorting and washing). Use soils meeting supplemental standards as backfill at SLAPS and cover site with clean soils. Soils not meeting supplemental standards disposed out-of-state. Use institutional controls to restrict future land use at SLAPS and to control soils beneath roads, bridges, railroads, and other permanent structures.

d. Alternative 4—Institutional Controls. Limit future land use at SLAPS, HISS/Futura, VPs, and for soils beneath roads, bridges, railroads, and other permanent structures using deed notices, land use restrictions, and zoning restrictions. Institutional controls and site maintenance would be implemented to prevent unacceptable exposures to site contamination.

e. Alternative 5—Excavation with Institutional Controls Under Roads, Bridges, Railroads, and Other Permanent Structures. Excavate impacted soils from SLAPS, HISS/Futura and VPs for out-of-state disposal. Use institutional controls to control soils beneath roads, bridges, railroads and other permanent structures.

f. Alternative 6—Excavation at all Properties. Excavate impacted soils from all locations, regardless of accessibility, for out-of-state disposal. Based on available information, the Corps of Engineers' preferred alternative is Alternative 5, Excavation with Institutional Controls Under Roads, Bridges, Railroads, and Other Permanent Structures. Although Alternative 5 is preferred at the present time, public comments are welcome on all alternatives.

3. Availability of the FS and PP

Copies of the FS and PP are with the site Administrative Record File and may be reviewed at the following locations: U.S. Army Corps of Engineers, St. Louis District, FUSRAP Project Office, 8945 Latty Avenue, Berkeley, MO 63134 between 8 a.m.-4:30 p.m., Monday thru Friday; or the St. Louis Public Library, Government Information Room, 1302 Olive Street, St. Louis, MO 63103 during normal business hours. Electronic copies of these documents are also available at: http://www.mvs.usace.army.mil/engr/fusrap/home2.htm.

Sharon R. Cotner,
FUSRAP Program Manager.

[FR Doc. 03-10686 Filed 4-30-03; 8:45 am]

BILLING CODE 3710-55-P